DEPARTMENT OF VETERANS AFFAIRS

Notice of Performance Review Board Members

AGENCY: Corporate Senior Executive Management Office, Department of Veterans Affairs.

ACTION: Notice.

SUMMARY: Agencies are required to publish a notice in the Federal Register of the appointment of Performance Review Board (PRB) members. This notice announces the appointment of individuals to serve on the PRB of the Department of Veterans Affairs.

DATES: The appointments are effective as of October 26, 2018.

ADDRESSES: Corporate Senior Executive Management Office, Department of Veterans Affairs, 810 Vermont Avenue NW, Washington, DC 20420.

FOR FURTHER INFORMATION CONTACT: Contact Tracey Therit, Acting Executive Director, Corporate Senior Executive Management Office (006D), Department of Veterans Affairs, 810 Vermont Avenue NW, Washington, DC 20420, (202) 461-7865.

SUPPLEMENTARY INFORMATION: The membership of the Department of Veterans Affairs Performance Review Board is as follows:

Powers, Pamela J. (Chair)

Syrek, Christopher D.

Pape, Lisa M.

Breyfogle, Cynthia L.

Rivera, Fernando O.

Adelman, Michael D.

Streitberger, William F.

Mayes, Bradley G.

Sullivan, Matthew

Chandler, Richard C.

Johnson, Harvey W.

Pope, D. Brent

Murray, Edward J.

Oswalt, John D.

Seekins, DeAnne M.

Smith, Robert M.

McLenachen, David R.

Hogan, Michael R.

Parker, Amy L.

Milligan, Jeffrey

Orr, Martha

Signing Authority

The Secretary of Veterans Affairs approved this document and authorized the undersigned to sign and submit the document to the Office of the Federal Register for publication electronically as an official document of the Department of Veterans Affairs. Robert L. Wilkie, Secretary, Department of Veterans Affairs, approved this document on October 24, 2018, for publication.

Authority: 5 U.S.C. 4314(c)(4)

Dated: October 24, 2018.
Jeffrey M. Martin,
Assistant Director, Office of Regulation Policy & Management, Office of the Secretary, Department of Veterans Affairs.

[FR Doc. 2018-23852 Filed 10-31-18; 8:45 am]

BILLING CODE 8320-01-P